FEDERAL COMMUNICATIONS COMMISSION

[EB Docket No. 01-61; FCC 01-74]

Amateur Radio Station and General Class Operator License KC4HAZ and General Mobile Radio Service Station KAE1170

AGENCY: Federal Communications Commission.

ACTION: Notice.

SUMMARY: This document by the Commission has taken the following actions: ordered a hearing to determine whether the station licenses held by Leslie D. Brewer for Amateur Radio Station and General Class Operator License KC4HAZ and General Mobile Radio Service Station KAE1170, Tampa, Florida, should be revoked; suspended Leslie D. Brewer's Amateur radio operator's license; and issued a notice of apparent liability for a forfeiture in the amount of $11,000 for Leslie D. Brewer's apparent willful and/or repeated operation of unlicensed FM radio facilities in Tampa, Florida. The Commission has determined that serious questions exist as to whether Leslie D. Brewer has willfully and repeatedly violated the Communications Act of 1934, as amended, and the Commission's rules, and the effect thereof on his basic qualifications to be and remain a Commission licensee.

ADDRESSES: Federal Communications Commission, Enforcement Bureau, 445 12th Street, SW., Washington, DC. 20554.

FOR FURTHER INFORMATION CONTACT: Roy Boyce or Dana Leavitt, Enforcement Bureau, Investigations and Hearings Division (202) 418-1420.

SUPPLEMENTARY INFORMATION: This is a summary of an Order to Show Cause, Notice of Order of Suspension, Notice of Opportunity for Hearing, and Notice of Apparent Liability for a Forfeiture (“Order”) in EB Docket No. 01-61, adopted by the Commission on February 22, 2001, and released on March 5, 2001. The complete text of this Order is available for inspection and copying during normal business hours in the FCC Reference Information Center, Courtyard Level, 445 12th Street, SW., Washington, DC, and also may be purchased from the Commission's copy contractor, International Transcription Services, Inc., at 202-857-3800, CY-B400, 445 12th Street, SW., Washington, DC.

Summary of Order To Show Cause, Notice of Order of Suspension, Notice of Opportunity for Hearing, and Notice of Apparent Liability for a Forfeiture

1. The Commission has commenced a hearing proceeding to determine whether Leslie D. Brewer (“Brewer”), licensee of Amateur radio station and General Class Operator License KC4HAZ and General Mobile Radio Station KAE1170, Tampa, Florida, is qualified to be or remain a Commission licensee. The record before the Commission indicates that Brewer has apparently willfully and/or repeatedly engaged in unlawful Commission-related activities, including the operation of unlicensed (i.e., “pirate”) FM radio broadcast facilities in the Tampa, Florida area and the marketing of unauthorized FM broadcast transmitting equipment. Pursuant to sections 312(a)(2), 312(a)(4), and 312(c) of the Communications Act of 1934, as amended (“the Act”), Leslie D. Brewer is ordered to show cause why the station licenses for Stations KC4HAZ and KAE1170 should not be revoked, at a hearing proceeding before an Administrative Law Judge at a time and place to be specified in a subsequent Order, upon the following issues:

(a) To determine whether Leslie D. Brewer willfully and/or repeatedly violated section 301 of the Act by operating unlicensed broadcast facilities in 1996, 1997, 1999, and/or 2000, and, if so, the effect thereof on his basic qualifications to be and remain a Commission licensee.

(b) To determine whether Leslie D. Brewer willfully and/or repeatedly violated section 301 of the Act by operating an unlicensed Studio-to-Transmitter Link in 1999 and/or 2000, and, if so, the effect thereof on his basic qualifications to be and remain a Commission licensee.

(c) To determine whether Leslie D. Brewer willfully and/or repeatedly violated §§ 2.803(a)(1) and/or 15.201(b) of the Commission's rules by marketing and/or selling an unauthorized radio frequency device or devices and, if so, the effect thereof on his basic qualifications to be and remain a Commission licensee.

(d) To determine, in light of the evidence adduced pursuant to the foregoing issues, whether Leslie D. Brewer is qualified to be and remain a Commission licensee.

(e) To determine, in light of the evidence adduced pursuant to the foregoing issues, whether the licenses for KC4HAZ and KAE1170 should be revoked.

2. The Commission also ordered that it be determined, pursuant to section 503, whether an Order of Forfeiture in an amount not to exceed $11,000 should be issued against Leslie D. Brewer for willfully and/or repeatedly violating section 301 of the Act on March 11, 2000.

3. Furthermore, the Commission ordered that, pursuant to section 303(m)(1)(A) of the Act and § 1.85 of the Commission's rules, Leslie D. Brewer's Amateur radio operator license is suspended for the duration of its term. The suspension shall take effect 15 calendar days after receipt by Brewer of the Order, unless, within such time, Brewer requests in writing a hearing on the matter of the suspension, in which instance, the suspension of operator license KC4HAZ shall be held in abeyance pending conclusion of the hearing. If Leslie D. Brewer timely requests in writing a hearing on the matter of suspension of his Amateur radio operator license, such hearing will be held in a consolidated proceeding to determine the issues in 1(a) through (d) above, and to determine whether Amateur radio operator license KC4HAZ should be suspended for the remainder of its term.

4. The Commission ordered that, to avail himself of the opportunity to be heard and the right to present evidence at a hearing in these proceedings, Leslie D. Brewer, in person or by his attorney, shall file within 15 calendar days after receipt of the Order to Show Cause and Notice of Opportunity for Hearing, a written appearance stating that he will appear at the hearing and present evidence on matters specified in the Order. If Brewer fails to file a timely written notice of appearance, his right to a hearing on the matter of his Amateur radio station and GMRS licenses shall be deemed to be waived and the proceeding thereafter shall be conducted in accordance with § 1.92 of the Commission's rules

Federal Communications Commission.
Magalie Roman Salas,
Secretary.

[FR Doc. 01-8844 Filed 4-10-01; 8:45 am]

BILLING CODE 6712-01-U